DEPARTMENT OF HOUSING AND URBAN DEVELOPMENT

[Docket No. FR-5300-FA-04]

Announcement of Funding Awards for the Rural Housing and Economic Development Program; Fiscal Year 2009

AGENCY: Office of the Assistant Secretary for Community Planning and Development, HUD.

ACTION: Notice of funding awards.

SUMMARY: In accordance with section 102(a)(4)(C) of the Department of Housing and Urban Development Reform Act of 1989, this announcement notifies the public of funding decisions made by the Department in a competition for funding under the Notice of Funding Availability (NOFA) for the Rural Housing and Economic Development Program. This announcement contains the names of the awardees and the amounts of the awards made available by HUD.

FOR FURTHER INFORMATION CONTACT: Jackie L. Williams, PhD, Director, Office of Rural Housing and Economic Development, Office of Community Planning and Development, 451 Seventh Street, SW., Room 7137, Washington, DC 20410-7000; telephone (202) 708-2290 (this is not a toll free number). Hearing- and- speech impaired persons may access this number via TTY by calling the Federal Relay Service toll-free at 1-800-877-8339. For general information on this and other HUD programs, call Community Connections at 1-800-998-9999 or visit the HUD Web site at http://www.hud.gov.

SUPPLEMENTARY INFORMATION: The Rural Housing and Economic Development program was authorized by the Department of Veterans Affairs, Housing and Urban Development and Independent Agencies Appropriations Act of 1999. The competition was announced in the Federal Register (FR Doc. E9-10186) on May 4, 2009. Applications were rated and selected for funding on the basis of selection criteria contained in that notice.

The Catalog of Federal Domestic Assistance number for this the Rural Housing and Economic Development program is 14.250. The Rural Housing and Economic Development Program is designed to build capacity at the State and local level for rural housing and economic development and to support innovative housing and economic development activities in rural areas. Eligible applicants are local rural non-profit organizations, community development corporations, Federally recognized Indian Tribes, State housing finance agencies, and State community and/or economic development agencies. The funds made available under this program were awarded competitively, through a selection process conducted by HUD. Prior to the rating and ranking of this year's applications, Youthbuild McLean County in Bloomington, Illinois, for the Fiscal year 2009 competition, was awarded a total of $300,000.00 as a result of funding errors during the previous year's funding. For the Fiscal year 2009 competition, a total of $25,030,464.75 was awarded to 86 projects nationwide.

In accordance with section 102(a)(4)(C) of the Department of Housing and Urban Development Reform Act of 1989 (103 Stat. 1987. 42 U.S.C. 3545), the Department is publishing the grantees and amounts of the awards in Appendix A to this document.

Dated: December 17, 2010.
Mercedes Márquez,
Assistant Secretary for Community Planning Development.

Appendix A

FY 2009 Rural Housing and Economic Development Program Grantees
Grantee | State | Amount awarded
Organized Village of Kasaan | AK | $300,000.00
Chilkoot Indian Association | AK | 238,000.00
Ketchikan Indian Community | AK | 300,000.00
Collaborative Solutions, Inc | AL | 300,000.00
Hale Empowerment & Revitalization Organization, Inc | AL | 300,000.00
Health Services Center, Inc | AL | 300,000.00
Moenkopi Developers Corporation, Inc | AZ | 257,280.00
The Primavera Foundation, Inc | AZ | 300,000.00
Bik'eh Hozho Community Development Corporation | AZ | 298,900.00
International Sonoran Desert Alliance | AZ | 300,000.00
Nogales Community Development Corporation | AZ | 300,000.00
Hopi Tribe | AZ | 299,000.00
Elfrida Citizens Alliance, Inc | AZ | 300,000.00
Chicanos Por La Causa, Inc | AZ | 300,000.00
Pascua Yaqui Tribe | AZ | 300,000.00
Bear River Band of Rohnerville Rancheria | CA | 300,000.00
Big Pine Paiute Tribe | CA | 300,000.00
Community Assistance Network | CA | 300,000.00
Fresno West Coalition for Economic Development | CA | 300,000.00
Hoopa Valley Housing Authority | CA | 300,000.00
Quechan Tribally Designated Housing Authority | CA | 300,000.00
Walking Shield, Inc | CA | 300,000.00
Bishop Paiute Tribe | CA | 299,640.00
Self-Help Enterprises | CA | 300,000.00
Yurok Tribe | CA | 300,000.00
Florida Non-Profit Services, Inc | FL | 300,000.00
DeSoto County Homeless Coalition | FL | 300,000.00
YouthBuild McLean County (YBMC, Inc.) | IL | 300,000.00
Kentucky Highlands Investment Corporation | KY | 300,000.00
Young Adult Development in Action, Inc. dba YouthBuild Hazard | KY | 300,000.00
WestCare Kentucky, Inc | KY | 300,000.00
Beattyville Housing and Development Corporation, Inc | KY | 150,000.00
Housing Development Alliance, Inc | KY | 300,000.00
KCEOC Community Action Partnership | KY | 300,000.00
Kentucky River Foothills Development Council, Inc | KY | 300,000.00
Partnership Housing, Inc | KY | 300,000.00
Macon Ridge Community Development Corporation | LA | 300,000.00
Tunica-Biloxi Tribe of Louisiana | LA | 242,000.00
NHA Properties, Inc | MA | 300,000.00
Global Community Investment Strategies, Inc | MD | 300,000.00
Four Directions Development Corporation | ME | 298,234.00
Chippewa-Luce-Mackinac Community Action Human Resource Authority, Inc | MI | 300,000.00
Grand Traverse Band of Ottawa and Chippewa Indians | MI | 293,933.00
Keweenaw Bay Indian Community | MI | 300,000.00
Little River Band of Ottawa Indians | MI | 238,349.00
Pokagon Band of Potawatomi Indians | MI | 300,000.00
Fond du Lac Band of Lake Superior Chippewa | MN | 170,000.00
Bois Forte Band of Chippewa | MN | 298,073.00
Esther Stewart Buford Foundation | MS | 180,000.00
County Housing, Education & Community Services, Inc | MS | 300,000.00
Richland Affordable Housing | MT | 300,000.00
Blackfeet Tribe | MT | 300,000.00
Northern Cheyenne Tribal Housing Authority | MT | 200,000.00
North Carolina Housing Finance Agency | NC | 300,000.00
Coalition of Indian Housing Authorities in North Dakota | ND | 300,000.00
Ho-Chunk Community Development Corporation | NE | 298,754.00
High Plains Community Development Corp., Inc | NE | 254,855.00
New Mexico Mortgage Finance Authority | NM | 300,000.00
Ohkay Owingeh Housing Authority | NM | 300,000.00
Community Area Resource Enterprise | NM | 300,000.00
Mescalero Apache Housing Authority | NM | 300,000.00
Muscogee (Creek) Nation | OK | 300,000.00
Iowa Tribe of Oklahoma | OK | 296,496.00
Citizen Potawatomi Community Development Organization | OK | 300,000.00
Confederated Tribes of Coos, Lower Umpqua and Siuslaw Indians | OR | 190,000.00
Allendale County Alive, Inc | SC | 300,000.00
Catawba Indian Nation | SC | 273,608.75
The Lakota Fund, Inc | SD | 300,000.00
Mazaska Owecaso Otipi Financial, Inc | SD | 160,000.00
Sicangu Wicoti Awayankapi Corporation | SD | 300,000.00
First Nations Oweesta Corporation | SD | 1,000,000.00
Buffalo Valley, Inc | TN | 300,000.00
West Tennessee Legal Service, Inc | TN | 300,000.00
Douglas-Cherokee Economic Authority, Inc | TN | 214,038.00
Neighborhood Housing Services of Dimmit County, Inc | TX | 300,000.00
Motivation Education & Training, Inc | TX | 300,000.00
Upper Rio Grande Workforce Development Board | TX | 300,000.00
Proyecto Azteca, Inc | TX | 300,000.00
Makah Tribe | WA | 300,000.00
Lummi Indian Nation | WA | 279,304.00
Spokane Tribe of Indians | WA | 300,000.00
Quinault Indian Nation | WA | 300,000.00
Neighborhood Housing Services of Richland Center | WI | 300,000.00
Lau Courte Oreilles Band of Lake Superior Chippewa Indians of Wisconsin | WI | 300,000.00
Southern Appalachian Labor School | WV | 300,000.00
|  | 25,030,464.75

[FR Doc. 2011-3740 Filed 2-17-11; 8:45 am]

BILLING CODE 4210-67-P